DEPARTMENT OF ENERGY

Federal Energy Regulatory Commission

Combined Notice of Filings #1

Take notice that the Commission received the following electric rate filings:

Docket Numbers: ER20-2446-002.

Applicants: Bitter Ridge Wind Farm, LLC.

Description: Compliance filing: Revised Rate Schedule FERC No. 1 Under Docket ER20-2446 to be effective 9/15/2020.

Filed Date: 11/30/20.

Accession Number: 20201130-5045

Comments Due: 5 p.m. ET 12/21/20.

Docket Numbers: ER21-136-000.

Applicants: Flat Ridge 3 Wind Energy, LLC.

Description: Resubmittal of Attachments [Asset Appendix and Exhibit D] to October 16, 2020 Flat Ridge 3 Wind Energy, LLC tariff filing.

Filed Date: 11/25/20.

Accession Number: 20201125-5193.

Comments Due: 5 p.m. ET 12/7/20.

Docket Numbers: ER21-497-000.

Applicants: EDF Renewables Development, Inc.

Description: Petition for Limited Waiver, et al. of EDF Renewables Development, Inc.

Filed Date: 11/25/20.

Accession Number: 20201125-5196.

Comments Due: 5 p.m. ET 12/7/20.

Docket Numbers: ER21-498-000.

Applicants: Otter Tail Power Company.

Description: § 205(d) Rate Filing: Filing of Revised Certificate of Concurrence—NSP TCEA to be effective 1/4/2021.

Filed Date: 11/30/20.

Accession Number: 20201130-5051.

Comments Due: 5 p.m. ET 12/21/20.

Docket Numbers: ER21-499-000.

Applicants: New England Power Pool Participants Committee.

Description: § 205(d) Rate Filing: December 2020 Membership Filing to be effective 11/1/2020.

Filed Date: 11/30/20.

Accession Number: 20201130-5093.

Comments Due: 5 p.m. ET 12/21/20.

Docket Numbers: ER21-500-000.

Applicants: Exelon Generation Company, LLC.

Description: Compliance filing: Reactive Service Rate Schedule Compliance Filing—Request for Expedited Action to be effective 12/17/2020.

Filed Date: 11/30/20.

Accession Number: 20201130-5143.

Comments Due: 5 p.m. ET 12/21/20.

Docket Numbers: ER21-501-000.

Applicants: Arizona Public Service Company.

Description: § 205(d) Rate Filing: Service Agreement Nos. 383 and 384_Sun Streams to be effective 11/1/2020.

Filed Date: 11/30/20.

Accession Number: 20201130-5144.

Comments Due: 5 p.m. ET 12/21/20.

Docket Numbers: ER21-502-000.

Applicants: New York Independent System Operator, Inc.

Description: § 205(d) Rate Filing: 205 filing re: 2021-2025 ICAP Demand Curve Reset Proposal to be effective 1/30/2021.

Filed Date: 11/30/20.

Accession Number: 20201130-5146.

Comments Due: 5 p.m. ET 12/21/20.

Docket Numbers: ER21-503-000.

Applicants: Alabama Power Company.

Description: Initial rate filing: Cotton Creek Affected System Upgrade Agreement Filing to be effective 10/29/2020.

Filed Date: 11/30/20.

Accession Number: 20201130-5175.

Comments Due: 5 p.m. ET 12/21/20.

Docket Numbers: ER21-504-000.

Applicants: Georgia Power Company.

Description: Initial rate filing: Cotton Creek Affected System Upgrade Agreement Filing to be effective 10/29/2020.

Filed Date: 11/30/20.

Accession Number: 20201130-5176.

Comments Due: 5 p.m. ET 12/21/20.

Docket Numbers: ER21-505-000.

Applicants: Mississippi Power Company.

Description: Initial rate filing: Cotton Creek Affected System Upgrade Agreement Filing to be effective 10/29/2020.

Filed Date: 11/30/20.

Accession Number: 20201130-5178.

Comments Due: 5 p.m. ET 12/21/20.

Docket Numbers: ER21-506-000.

Applicants: Alabama Power Company.

Description: Initial rate filing: Wild Azalea Affected System Upgrade Agreement Filing to be effective 10/29/2020.

Filed Date: 11/30/20..

Accession Number: 20201130-5179.

Comments Due: 5 p.m. ET 12/21/20.

Docket Numbers: ER21-507-000.

Applicants: Georgia Power Company.

Description: Initial rate filing: Wild Azalea Affected System Upgrade Agreement Filing to be effective 10/29/2020.

Filed Date: 11/30/20.

Accession Number: 20201130-5182.

Comments Due: 5 p.m. ET 12/21/20.

Docket Numbers: ER21-508-000.

Applicants: Mississippi Power Company.

Description: Initial rate filing: Wild Azalea Affected System Upgrade Agreement Filing to be effective 10/29/2020.

Filed Date: 11/30/20.

Accession Number: 20201130-5183.

Comments Due: 5 p.m. ET 12/21/20.

Docket Numbers: ER21-509-000.

Applicants: Alabama Power Company.

Description: Initial rate filing: Flowers Creek Affected System Upgrade Agreement Filing to be effective 10/29/2020.

Filed Date: 11/30/20.

Accession Number: 20201130-5185.

Comments Due: 5 p.m. ET 12/21/20.

Docket Numbers: ER21-510-000.

Applicants: Georgia Power Company.

Description: Initial rate filing: Flowers Creek Affected System Upgrade Agreement Filing to be effective 10/29/2020.

Filed Date: 11/30/20.

Accession Number: 20201130-5187.

Comments Due: 5 p.m. ET 12/21/20.

Docket Numbers: ER21-511-000.

Applicants: Safe Harbor Water Power Corporation.

Description: § 205(d) Rate Filing: Revised Reactive Service Tariff and Requests for Waiver and Expedited Action to be effective 1/1/2021.

Filed Date: 11/30/20.

Accession Number: 20201130-5190.

Comments Due: 5 p.m. ET 12/21/20.

Docket Numbers: ER21-512-000.

Applicants: Mississippi Power Company.

Description: Initial rate filing: Flowers Creek Affected System Upgrade Agreement Filing to be effective 10/29/2020.

Filed Date: 11/30/20.

Accession Number: 20201130-5195.

Comments Due: 5 p.m. ET 12/21/20.

Docket Numbers: ER21-513-000.

Applicants: Pacific Gas and Electric Company.

Description: § 205(d) Rate Filing: November 2020 Western WDT Service Agreement Biannual Filing to be effective 2/1/2021.

Filed Date: 11/30/20.

Accession Number: 20201130-5198.

Comments Due: 5 p.m. ET 12/21/20.

Docket Numbers: ER21-514-000.

Applicants: Pacific Gas and Electric Company.

Description: § 205(d) Rate Filing: November 2020 Western Interconnection Agreement Biannual Filing to be effective 2/1/2021.

Filed Date: 11/30/20.

Accession Number: 20201130-5201.

Comments Due: 5 p.m. ET 12/21/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2020.
Kimberly D. Bose,
Secretary.

[FR Doc. 2020-26716 Filed 12-3-20; 8:45 am]

BILLING CODE 6717-01-P